DEPARTMENT OF COMMERCE

Foreign-Trade Zones Board

[B-28-2017]

Foreign-Trade Zone 186—Waterville, Maine Application for Production Authority, Flemish Master Weavers, Subzone 186A, (Machine-Made Woven Area Rugs), Sanford, Maine

An application has been submitted to the Foreign-Trade Zones (FTZ) Board by the City of Waterville, Maine, grantee of FTZ 186, requesting production authority on behalf of Flemish Master Weavers (FMW), located within Subzone 186A in Sanford, Maine. The application conforming to the requirements of the regulations of the FTZ Board (15 CFR 400.23) was docketed on April 18, 2017.

The FMW facility (127 employees, 4.08 acres) is used for the production of machine-made woven area rugs. FMW already has restricted FTZ authority to produce area rugs using polypropylene and polyester yarns in privileged foreign status (19 CFR 146.41), which precludes inverted tariff benefits on those inputs (see 81 FR 51850, August 5, 2016).

The pending application requests authority for FMW to use imported continuous filament polypropylene yarn in non-privileged foreign status (19 CFR 146.42). If the application were approved, on its domestic sales, FMW would be able to choose the duty rate during customs entry procedures that applies to machine-made woven area rugs (duty free) for the imported continuous filament polypropylene yarn (otherwise dutiable at 8%). Customs duties also could possibly be deferred or reduced on foreign-status production equipment. The request indicates that the savings from FTZ procedures would help improve the plant's international competitiveness.

In accordance with the FTZ Board's regulations, Diane Finver of the FTZ Staff is designated examiner to evaluate and analyze the facts and information presented in the application and case record and to report findings and recommendations to the FTZ Board.

Public comment is invited from interested parties. Submissions shall be addressed to the FTZ Board's Executive Secretary at the address below. The closing period for their receipt is August 7, 2017. Rebuttal comments in response to material submitted during the foregoing period may be submitted during the subsequent 15-day period to August 21, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: June 2, 2017.
Andrew McGilvray,
Executive Secretary.

[FR Doc. 2017-11837 Filed 6-6-17; 8:45 am]

BILLING CODE 3510-DS-P